DEPARTMENT OF COMMERCE

International Trade Administration

Initiation of Antidumping and Countervailing Duty Administrative Reviews

AGENCY: Import Administration, International Trade Administration, Department of Commerce.

SUMMARY: The Department of Commerce (“the Department”) has received requests to conduct administrative reviews of various antidumping and countervailing duty orders and findings with September anniversary dates. In accordance with the Department's regulations, we are initiating those administrative reviews.

DATES: Effective Date: October 28, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with September anniversary dates.

All deadlines for the submission of various types of information, certifications, or comments or actions by the Department discussed below refer to the number of calendar days from the applicable starting date.

Notice of No Sales

Under 19 CFR 351.213(d)(3), the Department may rescind a review where there are no exports, sales, or entries of subject merchandise during the respective period of review (“POR”) listed below. If a producer or exporter named in this notice of initiation had no exports, sales, or entries during the POR, it must notify the Department within 60 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the period of review (“POR”). We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 60 days after publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://www.trade.gov/ia on the date of publication of this Federal Register notice. In responding to the Separate Rate Status Application, refer to the instructions contained in the application. Separate Rate Status Applications are due to the Department no later than 60 days after publication of this Federal Register notice. The deadline and requirement for submitting a Separate Rate Status Application applies equally to NME-owned firms, wholly foreign-owned firms, and foreign sellers that purchase and export subject merchandise to the United States.

For exporters and producers who submit a separate-rate status application or certification and subsequently are selected as mandatory respondents, these exporters and producers will no longer be eligible for separate-rate status unless they respond to all parts of the questionnaire as mandatory respondents.

Initiation of Reviews

In accordance with sections 19 CFR 351.221(c)(1)(i), we are initiating administrative reviews of the following antidumping and countervailing duty orders and findings. We intend to issue the final results of these reviews not later than September 30, 2011.

| Period to be reviewed
Antidumping Duty Proceedings
India: Certain Lined Paper Products, A-533-843 | 9/1/09-8/31/10
Abhinav Paper Products Pvt. Ltd.
American Scholar, Inc. and/or I-Scholar
Ampoules & Vials Mfg. Co., Ltd.
AR Printing & Packaging (India) Pvt
Bafna Exports
Cello International Pvt. Ltd. (M/S Cello Paper Products)
Creative Divya
Corporate Stationery Pvt. Ltd.
D.D International
Excel India (Pvt.) Ltd.
Exmart International Pvt. Ltd.
Fatechand Mahendrakumar
FFI International
Freight India Logistics Pvt. Ltd.
International Greetings Pvt. Ltd.
Kejriwal Paper Ltd. and Kejriwal Exports
Lodha Offset Limited
Magic International Pvt Ltd.
Marigold ExIm Pvt. Ltd.
Marisa International
Navneet Publications (India) Ltd.
Orient Press Ltd.
Paperwise Inc.
Pioneer Stationery Pvt. Ltd.
Premier Exports
Rajvansh International
Riddhi Enterprises
SAB International
Sar Transport Systems
Seet Kamal International
Sonal Printers Pvt Ltd.
Super Impex
Swati Growth Funds Ltd.
V & M
Yash Laminates
The People's Republic of China: Certain Lined Paper Products,¹ A-570-901 | 9/1/09-8/31/10
Shanghai Lian Li Paper Products Co., Ltd.
Leo's Quality Products Co., Ltd./Denmax Plastic Stationary Factory
Watanabe Group (consisting of the following companies):
Watanabe Paper Products (Shanghai) Co., Ltd.
Watanabe Paper Products (Linqing) Co., Ltd.
Hotrock Stationery (Shenzhen) Co., Ltd.
The People's Republic of China: Certain New Pneumatic Off-the-Road Tires,² A-570-912 | 9/1/09-8/31/10
Guizhou Tyre Co., Ltd.
Guizhou Advance Rubber Co., Ltd.
Guizhou Tyre Import and Export Corporation
Hangzhou Zhongce Rubber Co., Ltd.
Hebei Starbright Tire Co., Ltd.
KS Holding Limited/KS Resources Limited
Laizhou Xiongying Rubber Industry Co., Ltd.
Mai Shandong Radial Tyre Co., Ltd.
Qingdao Free Trade Zone Full-World International Trading Company, LTD.
Qingdao Tiafa Group Co., Ltd.
Tianjin United Tire & Rubber International Co., Ltd.
Weihai Zhongwei Rubber Co., Ltd.
The People's Republic of China: Freshwater Crawfish Tail Meat,³ A-570-848 | 9/1/09-8/31/10
China Kingdom (Beijing) Import & Export Co., Ltd.
Nanjing Gemsen International Co., Ltd.
Shanghai Ocean Flavor International Trading Co., Ltd.
Xiping Opeck Food Co., Ltd.
Xuzhou Jinjiang Foodstuffs Co., Ltd.
Yancheng Hi-King Agriculture Developing Co., Ltd.
The People's Republic of China: Kitchen Appliance Shelving and Racks,⁴ ⁵ A-570-941 | 3/5/09-8/31/10
Asia Pacific CIS (Wuxi) Co., Ltd.
Asia Pacific CIS (Thailand) Co., Ltd.
Guangdong Wire King Co., Ltd. (formerly known as Foshun Shunde Wireking Housewares & Hardware)
Hangzhou Dunli Import & Export Co., Ltd. and Hangzhou Dunli Industry Co., Ltd.
Hengtong Hardware Manufacturing (Huizhou) Co., Ltd.
Jiangsu Weixi Group Co.
King Shan Wire Co., Ltd. (parent company of New King Shan (Zhuhai) Co., Ltd.)
Leader Metal Industry Co., Ltd. (aka Marmon Retail Services Asia)
New King Shan (Zhu Hai) Co., Ltd.
Taiwan Rail Company
Countervailing Duty Proceedings
Brazil: Certain Hot-Rolled Carbon Steel Flat Products, C-351-829 | 1/1/09-12/31/09
Usinas Siderurgicas de Minas Gerais S.A.—Usiminas
Companhia Siderurgica Paulista—Cosipa
The People's Republic of China: Certain New Pneumatic Off-the-Road Tires, C-570-913 | 1/1/09-12/31/09
Guizhou Tyre Co., Ltd.
Guizhou Advance Rubber Co., Ltd.
Guizhou Tyre Import and Export Corporation
Qingda Etyre International Trade Co., Ltd.
Qingdao Hengda Tyres Co., Ltd.
Qingdao Sinorient International Ltd.
Qingdao Qizhou Rubber Co., Ltd.
Shandong Huitong Tyre Co., Ltd.
Tianjin United Tire & Rubber International Co., Ltd.
Techking Tires Limited
Wendeng Sanfeng Tyre Co., Ltd.
The People's Republic of China: Kitchen Appliance Shelving and Racks,⁶ C-570-942 | 1/7/09-12/31/09
Asia Pacific CIS (Wuxi) Co., Ltd.
Asia Pacific CIS (Thailand) Co., Ltd.
Guangdong Wire King Co., Ltd. (formerly known as Foshun Shunde
Wireking Housewares & Hardware)
Hangzhou Dunli Import & Export Co., Ltd. and Hangzhou Dunli Industry Co., Ltd.
Hengtong Hardware Manufacturing (Huizhou) Co., Ltd.
Jiangsu Weixi Group Co.
King Shan Wire Co., Ltd. (parent company of New King Shan (Zhuhai) Co., Ltd.)
Leader Metal Industry Co., Ltd. (aka Marmon Retail Services Asia)
New King Shan (Zhu Hai) Co., Ltd.
Taiwan Rail Company
¹ If one of the above named companies does not qualify for a separate rate, all other exporters of Certain Lined Paper Products from the People's Republic of China (“PRC”) who have not qualified for a separate rate are deemed to be covered by this review as part of the single PRC entity of which the named exporters are a part.
² If one of the above named companies does not qualify for a separate rate, all other exporters of Certain New Pneumatic Off-the-Road Tires from the PRC who have not qualified for a separate rate are deemed to be covered by this review as part of the single PRC entity of which the named exporters are a part.
³ If one of the above named companies does not qualify for a separate rate, all other exporters of Freshwater Crawfish Tail Meat from the PRC who have not qualified for a separate rate are deemed to be covered by this review as part of the single PRC entity of which the named exporters are a part.
⁴ If one of the above named companies does not qualify for a separate rate, all other exporters of Kitchen Appliance Shelving and Racks from the PRC who have not qualified for a separate rate are deemed to be covered by this review as part of the single PRC entity of which the named exporters are a part.
⁵ Petitioners, SSW Holding Company, Inc. and Nashville Wire Products, Inc, also requested a review of five additional companies. However, the Department has sought additional information as to why Petitioners desire a review of these companies, as required by 19 CFR 351.213(b)(1). We are still considering the appropriateness of initiating a review of these five companies. Therefore, at this time, we are not initiating a review with respect to the following companies: Asia Pacific CIS (Wuxi) Co., Ltd., Asia Pacific CIS (Thailand) Co., Ltd., Hengtong Hardware Manufacturing (Huizhou) Co., Ltd., Taiwan Rail Company, and King Shan Wire Co., Ltd.
⁶ See footnote 5.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional measures “gap” period, of the order, if such a gap period is applicable for the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.103(d)).

These initiations and this notice are in accordance with section 751(a) of the Act, (19 U.S.C. 1675(a)) and 19 CFR 351.221(c)(1)(I).

Dated: October 25, 2010.
Susan H. Kuhbach,
Acting Deputy Assistant Secretary for Antidumping and Countervailing Duty Operations.

[FR Doc. 2010-27296 Filed 10-27-10; 8:45 am]

BILLING CODE 3510-DS-P